DEPARTMENT OF THE INTERIOR

National Park Service

National Register of Historic Places; Notification of Pending Nominations and Related Actions

Nominations for the following properties being considered for listing or related actions in the National Register were received by the National Park Service before May 28, 2005. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by June 27, 2005.

John W. Roberts, Acting Chief,
National Register/National Historic Landmarks Program.

Alabama

Dallas County

Water Avenue Historic District, Water Ave. bounded by Lauderdale, MLK Blvd., Beech Creek, Alabama R, Selma, 05000650

Etowah County

Turrentine Historic District, 300-633 Turrentine Ave., Gadsen, 05000649

Jefferson County

Southside Historic District, 2800 University Blvd., parts of 4th-7th Ave. S and 22nd-32nd St. S, Birmingham, 05000647

Mobile County

Campground, The, Martin Luther King Jr. Ave., Rylands St., St. Stephens Rd. and Ann St., Mobile, 05000648

Monroe County

New Hope Baptist Church, About 4 mi. off Monroe Cty Rd. 50 near old Natchez, Beatrice, 05000646

Talladega County

Winterboro Stagecoarch Inn, 22901 AL 21, Winteboro, 05000651

Alaska

Prince of Wales—Outer K. Borough—Census Area

Mary Island Light Station, (Light Stations of the United States MPS) East Shore, N end of Mary Island, bet. the Revillgigedo Channel and Felice Strait about 6⅜ mi. S of Revillagiedo, Ketchikan, 05000645

Colorado

Weld County

Daniels School, US 60 and Weld Cty Rd. 25, Milliken, 05000653

Yuma County

Zion, Walter and Anna, Homestead, off Cty Rd. 15, Idalia, 05000652

Florida

Lake County

Eustis Commercial Historic District, Roughly Lake Eustis, McDonald Ave., Grove St., Orange Ave., Eustis, 05000654

Louisiana

Allen Parish

St. Paul Baptist Church—Morehead School, 772 Hickory Flats Rd., Kinder, 05000686

Maryland

Kent County

Sumner, Charles, Post #25, Grand Army of the Republic, 206 S. Queen St., Chestertown, 05000655

New York

Bronx County

Morris Park Station, (New York City Subway System MPS) Under Espalanade at Bogart and Colden Ave. and Hone Ave., Bronx, 05000677

Woodlawan Station (Dual System IRT), (New York City Subway System MPS) Jct. of Bainbridge Ave. and Jerome Ave., Bronx, 05000679

Essex County

Ausable Club, 137 Ausable Rd., St. Huberts, 05000683

Greene County

St. Paul's Lutheran Church, 464 Main St., Oak Hill, 05000682

Kings County

4th Avenue Station (IND), (New York City Subway System MPS) Bet. 3rd and 4th Aves., and 10th and 11th Sts., Brooklyn, 05000673

9th Avenue Station (Dual System BRT), (New York City Subway System MPS) 38th St. and 9th Ave. near the jct. of New Utrecht Ave., Brooklyn, 05000676

Avenue U Station (Dual System BRT), (New York City Subway System MPS) Bet. Ave. U and Ave. T and 7th and 8th Sts., Brooklyn, 05000675

Bay Parkway Station (Dual System BRT), (New York City Subway System MPS) Above Bay Parkway at 86th St., Brooklyn, 05000670

New Utrecht Avenue Station (Dual System BRT), (New York City Subway System MPS) Beneath the jct. of New Utrecht Ave. with 15th Ave. and 62nd St., Brooklyn, 05000678

Substation #401, (New York City Subway System MPS) 3046 Fulton St. bet. Essex St. and Shepherd Ave., Brooklyn, 05000680

Wilson Avenue Subway Station (Dual System BMT), (New York City Subway System MPS) Chauncey St. at Wilson Ave., Brooklyn, 05000681

Madison County

Chenango Canal Summit Level, (Historic and Engineering Resources of the Chenango Canal MPS) Along Canal Rd., Bouckville, 05000684

Nassau County

Oyster Bay Long Island Rail Road Station, Railroad Ave., Oyster Bay, 05000666

Oyster Bay Long Island Rail Road Turntable, Railroad Ave., Oyster Bay, 05000667

New York County

14th Street-Union Square Subway Station (IRT; Dual System BMT), (New York City Subway System MPS) Broadway, Fourth Ave., and E. 14th St., New York, 05000671

Beaver Building, 82-92 Beaver St., New York, 05000668

Brooklyn Bridge-City Hall Subway Station (IRT), (New York City Subway System MPS) Under Centre St. bet. Chambers and Frankfort Sts., New York, 05000674

Chambers Street Subway Station (Dual System BMT), (New York City Subway System MPS) Beneath the Municipal Building at Chambers, Centre and Duane Sts. and Lafayette Plaza, New York, 05000669

Queens County

Elmhurst Avenue Subway Station (IND), (New York City Subway System MPS) Beneath Broadway at 82nd St. and 45th Ave. and Elmhurst Ave., Queens, 05000672

Schoharie County

Forks in the Road Schoolhouse, 115 Lumber Rd., South Gilboa, 05000665

Westchester County

Marble Schoolhouse, 388 California Rd., Eastchester, 05000663

Rochelle Park—Rochelle Heights Historic District, The Circle, The Boulevard, The Serpentine, Hamilton Ave. and others, New Rochelle, 05000664

North Dakota

La Moure County

Dagen's Grocery, 616 Central Ave., Jud, 05000659

Pennsylvania

Montgomery County

Black Horse Inn, 1432 Bethlehem Pike, Flourtown, 05000685

Texas

Starr County

Mifflin Kenedy Warehouse and Old Starr County Courthouse, 200 Blk. W. Water St., Rio Grande City, 05000657

Rio Grande City Downtown Historic District, (Rio Grande City, Starr County, Texas MPS) Roughly bounded by N. Corpus, E. Wimpy, N. Avasolo and E. Mirasoles, Rio Grande City, 05000656

West Virginia

Harrison County

Edgewood Manor, 0.25 mi. N of U.S. 50 interchange on U.S. 19, Clarksburg, 05000662

Lost Creek Baltimore and Ohio Railroad Depot, Main St., Lost Creek Rd. and Cty Rte 48, Lost Creek, 05000660

Ohio County

Woodridge, 1308 Steenrod Ave., Wheeling, 05000658

Summers County

Hinton Historic District (Boundary Increase), Hill St., Hinton, 05000661

A request for REMOVAL has been made for the following resources:

Arkansas

Cleveland County

Federal Building 26 Magnolia St. Rison, 00000752

Lee County

Mison-Evans Barn 459 S. Alabama St. and U.S. 1 Bus. S. Marianna, 99001349

Prairie County

White River Bridge at DeValls Bluff (Historic Bridges of Arkansas MPS) US 70, over the White River DeValls Bluff, 90000514

A request for a MOVE has been made for the following resource:

Texas

Brazoria County

Underwood, Ammon, House Main St. Columbia, 76002011

[FR Doc. 05-11483 Filed 6-9-05; 8:45 am]

BILLING CODE 4312-51-P